DEPARTMENT OF LABOR

Employment and Training Administration

Announcement of the Career Videos for America's Job Seekers Challenge; Correction

AGENCY: Employment and Training Administration, Department of Labor.

ACTION: Notice; correction.

SUMMARY: The Department of Labor published a document in the Federal Register of May 18, 2010, announcing the Career Videos for America's Job Seekers Challenge. The dates for all phases of this Video Challenge have been extended. This document contains corrections to the dates published on that date on page 27824, columns two and three.

SUPPLEMENTARY INFORMATION: In the Federal Register of May 18, 2010, page 27824, column two under SUPPLEMENTARY INFORMATION, first paragraph, beginning with line 15, the corrected dates should read:

Phase 1 will run from May 10 to August 20, 2010. In this phase, the general public, associations, and/or employers can submit their occupational video for one of the 15 occupational categories to http://www.dolvideochallenge.ideascale.com. The submitted occupational videos should pertain to one of the following occupations:

1. Biofuels Processing Technicians;

2. Boilermakers;

3. Carpenters;

4. Computer Support Specialists;

5. Energy Auditors;

6. Heating, Air Conditioning, and Refrigeration Mechanics and Installers/Testing Adjusting and Balancing (TAB) Technicians;

7. Licensed Practical and Licensed Vocational Nurse;

8. Medical Assistants;

9. Medical and Clinical Lab Technicians including Cytotechnologists;

10. Medical Records and Health Information Technicians including Medical Billers and Coders;

11. Pipe fitters and Steamfitters;

12. Radiological Technologists and Technicians;

13. Solar Thermal Installers and Technicians;

14. Weatherization Installers and Technicians; and

15. Wind Turbine Service Technicians.

Those who submitted a video prior to the original deadline of June 18 and wish to submit an alternate version may do so by August 20, and indicate that they wish to substitute it for the original version.

Phase 2 will run from August 23 to September 10. During this phase, the DOL/ETA will screen, review, and identify the top three career videos in each occupational category and post these selected videos online at http://www.dolvideochallenge.ideascale.com for public review.

Phase 3 will run from September 13 to October 8. During this phase, the public will recommend the top career video in each occupational category. They will also have the opportunity to comment on videos.

Phase 4 will run from October 11 to October 29. In this final phase, DOL and ETA, will communicate the top career video in each occupational category to the workforce development community, educational community, and job seekers by:

1. Posting an announcement of the top ranking videos on key Web sites including:

• DOL.gov;

• DOLETA.gov;

• White House Office of Science and Technology Policy blog;

• Workforce3One.org; and Other sites;

2. Highlighting the videos and occupations on ETA's http://www.CareerOneStop.org portal, which already houses a variety of occupational videos for the workforce system;

3. Providing additional coverage of the videos on the ETA Communities of Practice, including: 21st Century Apprenticeship, Green Jobs, Reemployment Works, Regional Innovators, and Disability and Employment.

4. Utilizing other communication outlets such as national associations and intergovernmental organizations like the National Association of State Workforce Agencies, the National Association of Workforce Boards, the National Governor's Association, the National Association of Counties, and the Association of Community Colleges.

FOR FURTHER INFORMATION CONTACT: Michael Harding, Room 4510-C Employment and Training Administration, 200 Constitution Avenue, NW., Washington, DC 20210. Telephone number: 202-693-2921 (this is not a toll-free number). Fax: 202-693-3015. E-mail: Harding.Michael@dol.gov

Signed at Washington, DC this 8th day of June 2010.
Jane Oates,
Assistant Secretary, Employment and Training Administration.

[FR Doc. 2010-14141 Filed 6-11-10; 8:45 am]

BILLING CODE 4510-FN-P